DEPARTMENT OF ENERGY

Senior Executive Service Performance Review Board

AGENCY: Department of Energy.

ACTION: Designation of Performance Review Board Chair; Correction.

SUMMARY: The Department of Energy (DOE) published a notice in the Federal Register on October 27, 2020 designating the Performance Review Board (PRB) Chair designee. The notification failed to list an alternate PRB Chair member to serve, if needed and is corrected in this document. This listing supersedes all previously published lists of DOE Performance Review Board Chair.

Correction

In the Federal Register of October, 27, 2020, FR Doc. 2020-23698 (85 FR 68061), the following correction is made:

SUPPLEMENTARY INFORMATION:

Dennis M. Miotla (Primary)

Johnny O. Moore (Alternate)

Signing Authority

This document of the Department of Energy was signed on November 16, 2020, by Patricia L. Barfield, Acting Director, Office of Corporate Executive Management, Office of the Chief Human Capital Officer, pursuant to delegated authority from the Secretary of Energy. The document with the original signature and date is maintained by DOE. For administrative purposes only, and in compliance with requirements of the Office of the Federal Register, the undersigned DOE Federal Register Liaison Officer has been authorized to sign and submit the document in electronic format for publication as an official document of the Department of Energy. This administrative process in no way alters the legal effect of this document upon publication in the Federal Register.

Signed in Washington, DC, on November 17, 2020.
Treena V. Garrett,
Federal Register Liaison Officer, U.S. Department of Energy.

[FR Doc. 2020-25640 Filed 11-19-20; 8:45 am]

BILLING CODE 6450-01-P